DEPARTMENT OF HEALTH AND HUMAN SERVICES

Administration for Children and Families

Submission for OMB Review; Formative Data Collections for ACF Program Support (OMB #0970-0531)

AGENCY: Office of Planning, Research, and Evaluation, Administration for Children and Families, HHS.

ACTION: Request for public comment.

SUMMARY: The Administration for Children and Families (ACF) proposes to revise the existing overarching generic clearance for Formative Data Collections for ACF Program Support (OMB #0970-0531) to increase the estimated number of respondents and, therefore, the overall burden estimate.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: The goals of the generic information collections under this approval are to obtain information about program and grantee processes or needs, and to inform the following types of activities, among others:

• Delivery of targeted assistance and workflows related to program and grantee processes, and the development and refinement of recordkeeping and communication systems.

• Planning for provision of programmatic or evaluation-related training or technical assistance (T/TA).

• Obtaining grantee or other stakeholder input on the development of program performance measures.

• Use of rapid-cycle testing activities to strengthen programs in preparation for summative evaluations.

ACF uses a variety of techniques such as semi-structured discussions, focus groups, surveys, templates, open-ended requests, and telephone or in-person interviews, in order to reach these goals.

Following standard OMB requirements, OPRE will submit a change request for each individual data collection activity under this generic clearance. Each request will include the individual instrument(s), a justification specific to the individual information collection, and any supplementary documents. OMB should review requests within 10 days of submission.

Respondents: Example respondents include: Current or prospective service providers, training or T/TA providers, grantees, contractors, current and potential participants in ACF programs or similar comparison groups, experts in fields pertaining to ACF programs, key stakeholder groups involved in ACF projects and programs, individuals engaged in program re-design or demonstration development for evaluation, state or local government officials, or others involved in or prospectively involved in ACF programs.

Annual Burden Estimates
Instrument | Estimated total number of respondents | Number of responses per respondent | Average burden hours per response | Annual burden hours
Semi-Structured Discussions and Focus Groups | 5,000 | 1 | 2 | 10,000
Interviews | 2,500 | 1 | 1 | 2,500
Questionnaires/Surveys | 2,500 | 1.5 | .5 | 1,875
Templates and Open-ended Requests | 650 | 1 | 10 | 6,500

Estimated Total Annual Burden Hours: 20,875.

Authority: Social Security Act, Sec 1110 [42 U.S.C. 1310].

Mary B. Jones,
ACF/OPRE Certifying Officer.

[FR Doc. 2020-28576 Filed 12-23-20; 8:45 am]

BILLING CODE 4184-79-P